ENVIRONMENTAL PROTECTION AGENCY

40 CFR Part 52

[EPA-R08-OAR-2017-0298; FRL-9969-01-Region 8]

Approval and Promulgation; State of Utah; Salt Lake County and Utah County Nonattainment Area Coarse Particulate Matter State Implementation Plan Revisions To Control Measures for Point Sources

AGENCY: Environmental Protection Agency (EPA).

ACTION: Final rule.

SUMMARY: The Environmental Protection Agency (EPA) is finalizing approval of certain State Implementation Plan (SIP) revisions submitted by Utah on January 4, 2016, and of certain revisions submitted on January 19, 2017, for the coarse particulate matter (PM10) national ambient air quality standard (NAAQS) in the Salt Lake County and Utah County PM10 nonattainment areas. The revisions that the EPA is approving are located in Utah Division of Administrative Rule (DAR) R307-110-17 and SIP Subsection IX.H.1-4, and establish emissions limits for PM10, NOX and SO2 for certain stationary sources in the nonattainment areas. These actions are being taken under section 110 of the Clean Air Act (CAA).

DATES: This final rule is effective on November 13, 2017.

ADDRESSES: The EPA has established a docket for this action under Docket ID No. EPA-R08-OAR-2017-0298. All documents in the docket are listed on the http://www.regulations.gov Web site. Although listed in the index, some information is not publicly available, e.g., CBI or other information whose disclosure is restricted by statute. Certain other material, such as copyrighted material, is not placed on the Internet and will be publicly available only in hard copy form. Publicly available docket materials are available through http://www.regulations.gov, or please contact the person identified in the FOR FURTHER INFORMATION CONTACT section for additional availability information.

FOR FURTHER INFORMATION CONTACT: James Hou, Air Program, EPA, Region 8, Mailcode 8P-AR, 1595 Wynkoop Street, Denver, Colorado 80202-1129, (303) 312-6210, hou.james@epa.gov.

SUPPLEMENTARY INFORMATION:

I. Background

Under the 1990 amendments to the CAA, Salt Lake and Utah Counties were designated nonattainment for PM10 and classified as moderate areas by operation of law as of November 15, 1990 (56 FR 56694, 56840; November 6, 1991). On July 8, 1994, the EPA approved the PM10 SIP for the Salt Lake and Utah County Nonattainment Areas (59 FR 35036). The SIP included a demonstration of attainment and various control measures, including emission limits at stationary sources.

On January 4, 2016, Utah submitted SIP revisions to R307-110-17 titled “Section IX, Control Measures for Area and Point Sources, Part H, Emission Limits” and revisions to Subsection IX.H.1-4. The titles for Subsection IX.H.1-4 include: (1) General Requirements: Control Measures for Area and Point Sources, Emission Limits and Operating Practices, PM10 Requirements; (2) Source Specific Emission Limitations in Salt Lake County PM10 Nonattainment/Maintenance Area; (3) Source Specific Emission Limitations in Utah County PM10 Nonattainment/Maintenance Area; and (4) Interim Emission Limits and Operating Practices. Additionally, on January 19, 2017, Utah submitted revisions to Subsection IX.H.1-4. Further discussion of the revisions to R307-110-17 and Subsection IX.H.1-4 can be found below.

On July 13, 2017 (82 FR 32287), the EPA proposed to approve certain SIP revisions to the Salt Lake County and Utah County NAA Moderate area SIPs submitted by the State. Our proposed notice provides details on the EPA's evaluation of the State's submittals. The submittals dated January 4, 2016, and January 19, 2017, contained revisions to the Utah DAR, Title R307—Environmental Quality, set of rules, and SIP subsection IX.H.1-4.

II. Response to Comments

The EPA did not receive any comments on the July 13, 2017 proposed action.

III. Final Action

For the reasons stated in our proposed notice, the EPA is finalizing approval of revisions to Administrative Rule R307-110-17 and revisions to Subsection IX.H.1-4 for incorporation into the Utah SIP as submitted by the State of Utah on January 4, 2016, and January 19, 2017. These revisions establish emissions limitations and related requirements for certain stationary sources of PM10, NOX and SO2, and will therefore serve to continue progress towards attainment and maintenance of the PM10 NAAQS in the nonattainment areas. The revisions reflect more stringent emission levels for total emissions of PM10, SO2, and NOX for each of the affected facilities, as well as updates of the inventory of major stationary sources to accurately reflect the current sources in both the Salt Lake County and Utah County nonattainment areas (e.g., removing sources which no longer exist, or are now covered under an area source rule). The updated list of sources and revised emission limits for the major stationary sources in the two nonattainment areas will serve to enhance both area's ability to attain or maintain the NAAQS.

The specific emission limits and operating practices the EPA is finalizing for approval are listed in the following tables:

Table 1—Source Specific Emission Limitations in the Salt Lake County PM10 Nonattainment Area
Source | Pollutant | Process unit | Mass based limits | Concentration based limits | Alternative emission limits
Big West Oil | PM10 | Facility Wide | 1.037 tons per day (tpd)
| NOX | Facility Wide | 0.8 tpd
| SO2 | Facility Wide | 0.6 tpd
Bountiful City Light and Power | NOX | GT#1 | 0.6 g NOX/kW-hr
| NOX | GT#2 and GT#3 | 7.5 lb NOX/hr
Central Valley Water Reclamation Facility | NOX | Facility Wide | 0.648 tpd
Chevron Products Company | PM10 | Facility Wide | 0.715 tpd
| NOX | Facility Wide | 2.1 tpd
| SO2 | Facility Wide | 1.05 tpd
Hexcel Corporations |  |  |  |  | 5.50 MMscf natural gas per day.
|  |  |  |  | 0.061 MM pounds of carbon fiber produced per day.
Holly Refining and Marketing Company | PM10 | Facility Wide | 0.416 tpd
| NOX | Facility Wide | 2.09 tpd
| SO2 | Facility Wide | 0.31 tpd
Kennecott Utah Copper: Bingham Canyon Mine |  |  |  |  | Maximum of 30,000 miles for waste haul trucks per day.
|  |  |  |  | Fugitive road dust emission control requirements.
Kennecott Copperton Concentrator |  |  |  |  | Requirement to operate a gas scrubber operated in accordance with parametric monitoring.
Kennecott Utah Copper: Power Plant and Tailings Impoundment | PM10 | Power Plant Unit #5 | 18.8 lb/hr.
| NOX | Power Plant Unit #5 |  | 2.0 ppmdv (15% O2 dry).
| NOX | Power Plant Unit #5 Startup/Shutdown | 395 lb/hr.
| PM10 (Filterable) | Units #1, #2, #3, and #4 Nov 1-Feb 28/29 | 0.004 grains/dscf.
| PM10 (Filterable + Condensable) | Units #1, #2, #3, and #4 Nov 1-Feb 28/29 | 0.03 grains/dscf.
| NOX | Units #1, #2, and #3 Nov 1-Feb 28/29 |  | 336 ppmdv (3% O2).
| NOX | Unit #4 Nov 1-Feb 28/29 |  | 336 ppmdv (3% O2).
| PM10 (Filterable) | Units #1, #2, and #3; Mar 1-Oct 1 | 0.029 grains/dscf.
| PM10 (Filterable + Condensable) | Units #1, #2, and #3; Mar 1-Oct 1 | 0.29 grains/dscf.
| PM10 (Filterable) | Unit #4; Mar 1-Oct 1 | 0.029 grains/dscf.
| NOX | Units #1, #2, and #3; Mar 1-Oct 1 |  | 426.5 ppmdv (3% O2).
| NOX | Unit #4; Mar 1-Oct 1 |  | 384 ppmdv (3% O2).
Kennecott Utah Copper: Smelter and Refinery | PM10 (Filterable) | Main Stack | 89.5 lb/hr.
| PM10 (Filterable + Condensable) | Main Stack | 439 lb/hr.
| SO2 (3-hr rolling avg) | Main Stack | 552 lb/hr.
| SO2 (daily avg) | Main Stack | 422 lb/hr.
| NOX (daily avg) | Main Stack | 154 lb/hr.
| NOX | Refinery: Sum of 2 tank house boilers | 9.5 lb/hr.
| NOX | Refinery: Combined Heat Plant | 5.96 lb/hr.
| NOX | Molybdenum Autoclave Project: Combined Heat Plant | 5.01 lb/hr.
PacifiCorp Energy: Gadsby Power Plant | NOX | Steam Unit #1 | 179 lb/hr.
| NOX | Steam Unit #2 | 204 lb/hr.
| NOX | Steam Unit #3 | 142 lb./hr. (Nov 1-Feb 28/29).
| NOX | Steam Unit #3 | 203 lb/hr (Mar 1-Oct 31).
Tesoro Refining and Marketing Company | PM10 | Facility Wide | 2.25 tpd
| NOX | Facility Wide | 1.988 tpd.
| SO2 | Facility Wide | 3.1 tpd.
University of Utah | NOX | Boiler #3 |  | 187 ppmdv (3% O2 Dry).
|  | Boiler #4a & #4b |  | 9 ppmdv (3% O2 Dry).
|  | Boiler #5a & #5b |  | 9 ppmdv (3% O2 Dry).
|  | Turbine |  | 9 ppmdv (3% O2 Dry).
|  | Turbine and WHRU Duct burner |  | 15 ppmdv (3% O2 Dry).
West Valley Power ¹ | NOX | Sum of all five turbines | 1,050 lb/day.
¹ West Valley Power was not a listed source in the 1994 SIP for the Salt Lake County PM10 NAA.

Table 2—Source Specific Emission Limitations in the Utah County PM 10 Nonattainment Area
Source | Pollutant | Process unit | Mass based limits | Concentration based limits | Alternative emission limits
Brigham Young University | NOX | Unit #1 ² | 9.55 lb/hr | 95 ppmdv (7% O2 Dry).
| NOX | Unit #2 | 37.4 lb/hr. | 331 ppmdv (7% O2 Dry)
| SO2 | Unit #2 | 56.0 lb/hr | 597 ppmdv (7% O2 Dry).
| NOX | Unit #3 | 37.4 lb/hr | 331 ppmdv (7% O2 Dry).
| SO2 | Unit #3 | 56.0 lb/hr | 597 ppmdv (7% O2 Dry).
| NOX | Unit #4 ³ | 19.2 lb/hr | 127 ppmdv (7% O2 Dry).
| NOX | Unit #5 | 74.8 lb/hr | 331 ppmdv (7% O2 Dry).
| SO2 | Unit #5 | 112.07 lb/hr | 597 ppmdv (7% O2 Dry).
| NOX | Unit #6 ³ | 19.2 lb/hr | 127 ppmdv (7% O2 Dry).
Geneva Nitrogen Inc.: Geneva Plant | PM10 | Prill Tower | 0.236 tpd
| PM2.5 | Prill Tower | 0.196 tpd.
| NOX | Montecatini Plant | 30.8 lb/hr.
| NOX | Weatherly Plant | 18.4 lb/hr.
PacifiCorp Energy: Lakeside Power Plant | NOX | Block #1 Turbine/HRSG Stacks | 14.9 lb/hr.
| NOX | Block #2 Turbine/HRSG Stacks | 18.1 lb/hr.
Payson City Corporation: Payson City Power | NOX | All engines combined | 1.54 tpd.
Provo City Power: Power Plant | NOX | All engines combined | 2.45 tpd.
Springville City Corporation: Whitehead Power Plant | NOX | All engines combined | 1.68 tpd.
² The NOX limit for Unit #1 is 95 ppm (9.55 lb/hr) until it operates for more than 300 hours during a rolling 12-month period, then the limit will be 36 ppm (5.44 lb/hr). This will be accomplished through the installation of low NOX burners with Flue Gas Recirculation.
³ The NOX limit for Units #4 and #6 is 127 ppm (38.5 lb/hr) until December 31, 2018, at which time the limit will then be 36 ppm (19.2 lb/hr).

Table 3—Interim Emission Limits and Operating Practices ⁴
Source | Pollutant | Process unit | Mass based limits | Concentration based limits | Alternative emission limits
Big West Oil | PM10 | Facility Wide | 0.377 tpd Oct 1-Mar 31. 0.407 tpd April 1-Sept 30
| SO2 | Facility Wide | 2.764 tpd Oct 1-March 31 3.639 tpd April 1-Sept 30
| NOX | Facility Wide | 1.027 tpd Oct 1-Mar 31 1.145 tpd Apr 1 - Sep 30
Chevron Products Company | PM10 | Facility Wide | 0.234 tpd
| SO2 | Facility Wide | 0.5 tpd.
| NOX | Facility Wide | 2.52 tpd.
Holly Refining and Marketing Company | PM10 | Facility Wide | 0.44 tpd.
| SO2 | Facility Wide | 4.714 tpd.
| NOX | Facility Wide | 2.20 tpd.
Tesoro Refining and Marketing Company | PM10 | Facility Wide | 0.261 tpd.
| SO2 | Facility Wide | 3.699 tpd Nov 1-Feb 28/29-4.374 tpd Mar 1-Oct 31
| NOX | Facility Wide | 1.988 tpd.
⁴ This section establishes interim emission limits for sources whose new emission limits under Subsections IX.H.2 and 3 are based on controls that are not currently installed, with the provision that all necessary controls needed to meet the emission limits under Subsection IX.H.2 and IX.H.3 shall be installed by January 1, 2019.

IV. Incorporation by Reference

In this rule, the EPA is finalizing regulatory text that includes incorporation by reference. In accordance with requirements of 1 CFR 51.5, the EPA is finalizing the incorporation by reference of Utah Division of Administrative Rules described in the amendments set forth to 40 CFR part 52 below. The EPA has made, and will continue to make, these materials generally available through www.regulations.gov and/or at the EPA Region 8 Office (please contact the person identified in the FOR FURTHER INFORMATION CONTACT section of this preamble for more information).

Therefore, these materials have been approved by the EPA for inclusion in the SIP, have been incorporated by reference by the EPA into that plan, are fully federally enforceable under sections 110 and 113 of the CAA as of the effective date of the final rulemaking of the EPA's approval, and will be incorporated by reference by the Director of the Federal Register in the next update to the SIP compilation.¹

¹ 62 FR 27968 (May 22, 1997).

V. Statutory and Executive Order Reviews

A. General Requirements

Under the CAA, the Administrator is required to approve a SIP submission that complies with the provisions of the CAA and applicable Federal regulations. See 42 U.S.C. 7410(k); 40 CFR 52.02(a). Thus, in reviewing SIP submissions, the EPA's role is to approve state choices, provided that they meet the criteria of the CAA. Accordingly, these actions merely approve state law as meeting federal requirements and do not impose additional requirements beyond those imposed by state law. For this reason, these actions:

• Are not significant regulatory actions subject to review by the Office of Management and Budget under Executive Orders 12866 (58 FR 51735, October 4, 1993) and 13563 (76 FR 3821, January 21, 2011); Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have federalism implications as specified in Executive Order 13132 (64 FR 43255, August 10, 1999);

• Are not economically significant regulatory actions based on health or safety risks subject to Executive Order 13045 (62 FR 19885, April 23, 1997);

• Are not significant regulatory actions subject to Executive Order 13211 (66 FR 28355, May 22, 2001);

• Are not subject to requirements of section 12(d) of the National Technology Transfer and Advancement Act of 1995 (15 U.S.C. 272 note) because application of those requirements would be inconsistent with the CAA; and

• Do not provide the EPA with the discretionary authority to address, as appropriate, disproportionate human health or environmental effects, using practicable and legally permissible methods, under Executive Order 12898 (59 FR 7629, February 16, 1994).

In addition, the SIP does not apply on any Indian reservation land or in any other area where the EPA or an Indian tribe has demonstrated that a tribe has jurisdiction. In those areas of Indian country, the final rule does not have tribal implications and will not impose substantial direct costs on tribal governments or preempt tribal law as specified by Executive Order 13175 (65 FR 67249, November 9, 2000).

B. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 11, 2017. Filing a petition for reconsideration by the Administrator of this final rule does not affect the finality of this action for the purposes of judicial review nor does it extend the time within which a petition for judicial review may be filed, and shall not postpone the effectiveness of such rule or action. This action may not be challenged later in proceedings to enforce its requirements. See CAA section 307(b)(2).

List of Subjects in 40 CFR Part 52

Environmental protection, Air pollution control, Carbon monoxide, Intergovernmental relations, Incorporation by reference, Lead, Nitrogen dioxide, Ozone, Particulate matter, Reporting and recordkeeping requirements, Sulfur oxides, Volatile organization compounds.

Authority: 42 U.S.C. 7401 et seq.

Dated: September 25, 2017.
Suzanne J. Bohan,
Acting Regional Administrator, Region 8.

40 CFR part 52 is amended as follows:

PART 52—APPROVAL AND PROMULGATION OF IMPLEMENTATION PLANS

1. The authority citation for part 52 continues to read as follows:

Authority: 42 U.S.C. 7401 et seq.

Subpart TT—Utah

2. Section 52.2320 is amended as follows:

a. In the table in paragraph (c), by revising under the centered heading “R307-110. General Requirements: State Implementation Plan,” the table entry for “R307-110-17”;

b. In the table in paragraph (e), by revising under the centered heading “IX. Control Measures for Area and Point Sources,” the table entry for “Section IX.H.1. Fine Particulate Matter (PM10), Emission Limits and Operating Practices (Utah County)”;

c. In the table in paragraph (e), by adding under the centered heading “IX. Control Measures for Area and Point Sources.” table entries for “Section IX.H.2. Source Specific Emission Limitations in Salt Lake County PM10 Nonattainment/Maintenance Area;” “Section IX.H.3. Source Specific Emission Limitations in Utah County PM10 Nonattainment/Maintenance Area;” and “Section IX.H.4. Interim Emission Limits and Operating Practices” in numerical order.

The revision reads as follows:

§ 52.2320 Identification of plan.

* * * * *

(c) * * *

Rule No. | Rule title | State effective date | Final rule citation, date | Comments
* * * * * * *
R307-110. General Requirements: State Implementation Plan
* * * * * * *
R307-110-17 | Section IX, Control Measures for Area and Point Sources, Part H, Emission Limits | 12/8/2016 | [Insert Federal Register citation] 10/11/2017 | Except for Section IX.H.21.e. which is conditionally approved through one year from 7/5/16, IX.H.21.g., Sections of IX.H.21 that reference and apply to the source specific emission limitations disapproved in Section IX.H.22, and Sections IX.H.22.a.ii-iii, IX.H.22.b.ii, and IX.H.22.c.
* * * * * * *

* * * * *

(e) * * *

Rule title | State effective date | Final rule citation, date | Comments
* * * * * * *
IX. Control Measures for Area and Point Sources
* * * * * * *
Section IX.H.1. General Requirements: Control Measures for Area and Point Sources, Emission Limits and Operating Practices, PM10 Requirements | 12/3/2015 | [Insert Federal Register citation] 10/11/2017
Section IX.H.2. Source Specific Emission Limitations in Salt Lake County PM10 Nonattainment/Maintenance Area | 12/3/2015 12/8/2016 | [Insert Federal Register citation] 10/11/2017
Section IX.H.3. Source Specific Emission Limitations in Utah County PM10 Nonattainment/Maintenance Area | 12/3/2015 | [Insert Federal Register citation] 10/11/2017
Section IX.H.4. Interim Emission Limits and Operating Practices | 12/3/2015 | [Insert Federal Register citation] 10/11/2017
* * * * * * *

[FR Doc. 2017-21778 Filed 10-10-17; 8:45 am]

BILLING CODE 6560-50-P